FEDERAL MARITIME COMMISSION

Ocean Transportation Intermediary License Applicants

Notice is hereby given that the following applicants have filed with the Federal Maritime Commission an application for license as a Non-Vessel-Operating Common Carrier and Ocean Freight Forwarder=Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Four Seasons Logistics Inc., 42-32 College Point Blvd., Flushing, NY 11355.

Officer: Mun Lai Chang, President (Qualifying Individual).

Dakota Export, LLC, 1413 7th Street South, Fargo, ND 58103.

Officer: Dmitry Kovalyov, General Manager (Qualifying Individual).

G. B. Logistics (USA), Inc., 22010 S. Wilimington Ave., Suite 201, Carson, CA 90745.

Officers: Jenny M. Ma, Vice President Exports, (Qualifying Individual) Richard Yuan, Treasurer.

RPM Cargo Express, Inc. dba Carib-Link Services, 7150 NW, 36th Avenue, Miami, FL 33147.

Officer: Vladimir Vazquez, President (Qualifying Individual).

Non-Vessel-Operating Common Carrier and Ocean Freight Forwarder Transportation Intermediary Applicant

USL Logistics, LLC, 3621 S. Harbor Blvd., Suite 225, Santa Ana, CA 92704.

Officers: Robert A. Beilin, President, (Qualifying Individual) Kevin W. T. Kroft, Treasurer.

Dated: May 13, 2005.
Bryant L. VanBrakle,
Secretary.

[FR Doc. 05-9929 Filed 5-17-05; 8:45 am]

BILLING CODE 6730-01-P